NUCLEAR REGULATORY COMMISSION

[Docket No. 50-286]

Entergy Nuclear Operations, Inc.; Notice of Withdrawal of Application for Amendment to Facility Operating License

The U.S. Nuclear Regulatory Commission (the Commission) has granted the request of Entergy Nuclear Operations, Inc. (the licensee) to withdraw its February 27, 2001, application for proposed amendment to Facility Operating License No. DPR-64 for the Indian Point Nuclear Generating Unit No. 2 (IP2), located in Westchester County, New York.

The proposed amendment would have revised the Technical Specifications (TSs) to change the mode applicability for certain engineered safety features and auxiliary electrical systems from the point of time when the reactor is made critical to when the average reactor coolant temperature is heated above 350 °F. The amendment would also have changed the associated action that must be taken when the TS conditions cannot be met to require a plant cooldown to below 350 °F.

The Commission had previously issued a Notice of Consideration of Issuance of Amendment published in the Federal Register on April 4, 2001 (66 FR 17965). However, by letter dated February 27, 2002, the licensee withdrew the proposed change.

Further details with respect to this action, see the application for amendment dated February 27, 2001, and the licensee's letter dated February 27, 2002, which withdrew the application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/reading-rm.html.

Persons who do not have access to ADAMS or who encounter problems in accessing the documents located in ADAMS, should contact the NRC Public Document Room (PDR) Reference staff by telephone at 1-800-397-4209, 301-415-4737 or by email to pdr@nrc.gov.

Dated at Rockville, Maryland, this 13th day of March 2002.
For the Nuclear Regulatory Commission.
Patrick D. Milano,
Sr. Project Manager, Section 1, Project Directorate, Division of Licensing Project Management, Office of Nuclear Reactor Regulation.

[FR Doc. 02-6689 Filed 3-19-02; 8:45 am]

BILLING CODE 7590-01-P